DEPARTMENT OF THE INTERIOR

Bureau of Land Management

[LLID9570000.LL14200000.BJ0000]

IDAHO: Filing of Plats of Survey

AGENCY: Bureau of Land Management, Interior.

ACTION: Notice of filing of plats of surveys.

SUMMARY: The Bureau of Land Management (BLM) has officially filed the plats of survey of the lands described below in the BLM Idaho State Office, Boise, Idaho, effective 9:00 a.m., on the dates specified.

FOR FURTHER INFORMATION CONTACT: Bureau of Land Management, 1387 South Vinnell Way, Boise, Idaho, 83709-1657.

SUPPLEMENTARY INFORMATION: These surveys were executed at the request of the Bureau of Land Management to meet their administrative needs. The lands surveyed are:

The supplemental plat prepared to amend certain lotting in sections 5 and 11, T. 5 S., R. 4 W., Boise Meridian, Idaho, was accepted January 7, 2010.

The plat constituting the entire survey record of the corrective dependent resurvey of a portion of the subdivisional lines, T. 2 N., R. 18 E., of the Boise Meridian, Idaho, Group Number 1274, was accepted January 15, 2010.

The plat representing the dependent resurvey of a portion of the west boundary and a portion of the subdivisional lines, and the subdivision of section 18, T. 14 S., R. 27 E., of the Boise Meridian, Idaho, Group Number 1282, was accepted January 22, 2010. The plat constituting the entire survey record of the dependent resurvey of portions of the north boundary and subdivisional lines, and the subdivision of section 2, T. 7 N., R. 39 E., of the Boise Meridian, Idaho, Group Number 1284, was accepted January 26, 2010.

The plat representing the dependent resurvey of a portion of the subdivisional lines, and the subdivision of sections 4, 10, and 15, and the metes-and-bounds survey of the centerline of U.S. Highway No. 93 in sections 3, 4, 10, and 15, T. 12 N., R. 20 E., of the Boise Meridian, Idaho, Group Number 1120, was accepted March 31, 2005.

The plat representing the dependent resurvey of a portion of the Third Standard Parallel North (south boundary), a portion of the west boundary, and a portion of the subdivisional lines, and the subdivision of sections 19, 29, 30, 32, and 33, the metes-and-bounds survey of lot 8, section 19, and the metes-and-bounds survey of the centerline of U.S. Highway No. 93 in sections 19, 20, 29, 32, and 33, T. 13 N., R. 20 E., of the Boise Meridian, Idaho, Group Number 1120, was accepted March 31, 2005.

The plat constituting the entire survey record of the dependent resurvey of a portion of the subdivisional lines, and the subdivision of section 20, T. 1 N., R. 14 E., of the Boise Meridian, Idaho, Group Number 1278, was accepted February 3, 2010.

The supplemental plat prepared to amend certain lotting in section 1, T. 3 S., R. 36 E., Boise Meridian, Idaho, was accepted February 16, 2010.

The supplemental plat prepared to show amended lottings in section 28, T. 48 N., R. 2 E., Boise Meridian, Idaho, was accepted March 3, 2010.

The supplemental plat prepared to create a parcel for that portion of Tract 44 which lies in the NW1/4 of the NW1/of section 17, T. 6 S., R. 34 E., Boise Meridian, Idaho, was accepted March 18, 2010.

This survey was executed at the request of the Bureau of Indian Affairs to meet their administrative needs. The lands surveyed are:

The plat representing the retracement of portions of the west and north boundaries and subdivisional lines, and the metes-and-bounds survey of certain tracts in sections 3, 7, 8, 10, 14, 15, 16, 17, 21, 22, and 23, T. 6 S., R. 34 E., of the Boise Meridian, Idaho, Group Number 1272, was accepted February 5, 2010.

The plat representing the dependent resurvey of portions of the subdivisional lines, and the subdivision of sections 20 and 29, T. 7 N., R. 24 E., of the Boise Meridian, Idaho, Group Number 1225, was accepted February 18, 2010.

Dated: April 1, 2010.
Stanley G. French,
Chief Cadastral Surveyor for Idaho.

[FR Doc. 2010-11546 Filed 5-17-10; 8:45 am]

BILLING CODE 4310-GG-P